POSTAL SERVICE

Temporary Emergency Committee of the Board of Governors; Sunshine Act Meeting

DATES AND TIMES: Monday, November 14, 2016, at 1:00 p.m.; and Tuesday, November 15, at 10:00 a.m. and 1:00 p.m.

PLACE: Washington, DC, at U.S. Postal Service Headquarters, 475 L'Enfant Plaza SW., in the Benjamin Franklin Room.

STATUS: Monday, November 14, at 1:00 p.m.—Closed; Tuesday, November 15, at 10:00 a.m.—Open; and Tuesday, November 15, at 1:00 p.m.—Closed

MATTERS TO BE CONSIDERED:

Monday, November 14, 2016, at 1:00 p.m. (Closed)

1. Strategic Issues.

2. Pricing.

3. Financial Matters.

4. Compensation and Personnel Matters.

5. Governors' Executive Session—Discussion of prior agenda items and Board governance.

Tuesday, November 15, at 10:00 a.m. (Open)

1. Remarks of the Chairman of the Temporary Emergency Committee of the Board.

2. Remarks of the Postmaster General and CEO.

3. Approval of Minutes of Previous Meetings.

4. Committee Reports.

5. FY2016 10K and Financial Statements.

6. FY2017 IFP and Financing Resolution.

7. FY2018 Appropriations Request.

8. Quarterly Service Performance Report.

9. Approval of Annual Report and Comprehensive Statement.

10. Draft Agenda for the teleconference tentatively scheduled for December 1.

11. Appointment of the TEC Chair.

Tuesday, November 15, at 1:00 p.m. (Closed—if needed)

1. Continuation of Monday's closed session agenda.

CONTACT PERSON FOR MORE INFORMATION: Julie S. Moore, Secretary of the Board, U.S. Postal Service, 475 L'Enfant Plaza SW., Washington, DC 20260-1000. Telephone: (202) 268-4800.

Julie S. Moore,
Secretary.

[FR Doc. 2016-26127 Filed 10-26-16; 11:15 am]

BILLING CODE 7710-12-P